DEPARTMENT OF ENERGY

Federal Energy Regulatory Commission

[Docket No. RP01-527-000]

OkTex Pipeline Company; Notice of Annual Charge Adjustment

September 5, 2001.

Take notice that on August 30, 2001, OkTex Pipeline Company (OkTex) tendered for filing its current Annual Charge Adjustment (ACA). OkTex states that the purpose of the filing is to reflect that there is a change in the currently effective ACA surcharge to OkTex's tariff rates for the period October 1, 2000 through September 30, 2002. The ACA surcharge is currently $0.0022 per Dth and will not change to $0.0021 until bills issued after September 30, 2001.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before September 12, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22733 Filed 9-10-01; 8:45 am]

BILLING CODE 6717-01-P